GENERAL SERVICES ADMINISTRATION

Office of Governmentwide Policy; Cancellation of an Optional Form

AGENCY: General Services Administration.

ACTION: Notice.

SUMMARY: Because of low usage, the following Optional Form is cancelled: OF 16, Sales Slip.

FOR FURTHER INFORMATION CONTACT: Ms. Barbara Williams, (202) 501-0581.

DATES: Effective June 29, 2004.

Dated: June 21, 2004.
Barbara M. Williams,
Deputy Standard and Optional Forms Management Officer.

[FR Doc. 04-14683 Filed 6-28-04; 8:45 am]

BILLING CODE 6820-34-M